DEPARTMENT OF COMMERCE

International Trade Administration

[A-570-888]

Floor-Standing, Metal-Top Ironing Tables and Certain Parts Thereof From the People's Republic of China: Preliminary Results of Antidumping Duty Administrative Review

AGENCY: Import Administration, International Trade Administration, Department of Commerce.

SUMMARY: In response to requests from interested parties, the Department of Commerce (“the Department”) is conducting an administrative review of the antidumping duty order on floor-standing, metal-top ironing tables and certain parts thereof from the People's Republic of China (“PRC”). The period of review (“POR”) is August 1, 2006, through July 31, 2007. We have preliminarily determined that Since Hardware (Guangzhou) Co., Ltd. (“Since Hardware”), has made sales to the United States of the subject merchandise at prices below normal value and that Forever Holdings Limited (“Forever Holdings”) has not sold merchandise to the United States at prices below normal value. We invite interested parties to comment on these preliminary results. Parties filing comments are requested to submit with each argument (1) a statement of the issue and (2) a brief summary of the argument(s).

EFFECTIVE DATE: September 9, 2008.

FOR FURTHER INFORMATION CONTACT: Michael J. Heaney or Robert James, AD/CVD Operations, Office 7, Import Administration, International Trade Administration, U.S. Department of Commerce, 14th Street and Constitution Avenue, NW, Washington, DC 20230; telephone: (202) 482-4475 or (202) 482-0649, respectively.

SUPPLEMENTARY INFORMATION:

Background

On August 6, 2004, the Department published in the Federal Register the antidumping duty order regarding floor-standing, metal-top ironing tables and certain parts thereof (“ironing tables”) from the PRC. See Notice of Amended Final Determination of Sales at Less Than Fair Value and Antidumping Duty Order: Floor-Standing, Metal-Top Ironing Tables and Certain Parts Thereof From the People's Republic of China, 69 FR 47868 (August 6, 2004) (Ironing Tables Order).

On August 2, 2007, the Department published a notice of opportunity to request an administrative review of the antidumping duty order of ironing tables from the People's Republic of China. See Antidumping or Countervailing Duty Order, Finding, or Suspended Investigation; Opportunity to Request Administrative Review, 72 FR 42383 (August 2, 2007). On August 30, 2007, Home Products International (the Petitioner in this proceeding) requested, in accordance with 19 CFR 351.213(b)(2), that the Department conduct a administrative review of this order for Since Hardware. On August 31, 2007, Since Hardware and Forever Holdings requested administrative reviews of their sales under the antidumping duty order. On September 25, 2007, the Department initiated an administrative review of Since Hardware and Forever Holdings. See Initiation of Antidumping and Countervailing Duty Administrative Reviews and Requests for Revocation in Part, 72 FR 54428 (September 25, 2007).

On April 21, 2008, in accordance with section 751(a)(3)(A) of the Tariff Act of 1930, as amended (“the Act”), and 19 CFR 351.213(h)(2), the Department extended the deadline for the preliminary results of review until September 2, 2008. See Floor-Standing, Metal-Top Ironing Tables and Parts Thereof from the People's Republic of China: Extension of the Time Limit for the Preliminary Results of the 2006/2007 Administrative Review, 73 FR 21317 (April 21, 2008).

On March 3, 2008, we invited interested parties to comment on the Department's surrogate country selection and to submit publicly available information to value the factors of production. On April 24, 2008, we extended the period for filing surrogate value and factor of production comments in this review until June 6, 2008. On June 6, 2008, Since Hardware, Forever Holdings, and the Petitioner each submitted comments concerning surrogate values and factors of production.

The Department received timely filed original and supplemental questionnaire responses from both Since Hardware and Forever Holdings.

Scope of the Order

For purposes of this order, the product covered consists of floor-standing, metal-top ironing tables, assembled or unassembled, complete or incomplete, and certain parts thereof. The subject tables are designed and used principally for the hand ironing or pressing of garments or other articles of fabric. The subject tables have full-height leg assemblies that support the ironing surface at an appropriate (often adjustable) height above the floor. The subject tables are produced in a variety of leg finishes, such as painted, plated, or matte, and they are available with various features, including iron rests, linen racks, and others. The subject ironing tables may be sold with or without a pad and/or cover. All types and configurations of floor-standing, metal-top ironing tables are covered by this review.

Furthermore, this order specifically covers imports of ironing tables, assembled or unassembled, complete or incomplete, and certain parts thereof. For purposes of this order, the term “unassembled” ironing table means a product requiring the attachment of the leg assembly to the top or the attachment of an included feature such as an iron rest or linen rack. The term “complete” ironing table means product sold as a ready-to-use ensemble consisting of the metal-top table and a pad and cover, with or without additional features, e.g., iron rest or linen rack. The term “incomplete” ironing table means product shipped or sold as a “bare board” i.e., a metal-top table only, without the pad and cover with or without additional features, e.g., iron rest or linen rack. The major parts or components of ironing tables that are intended to be covered by this order under the term “certain parts thereof” consist of the metal top component (with or without assembled supports and slides) and/or the leg components, whether or not attached together as a leg assembly. The order covers separately shipped metal top components and leg components, without regard to whether the respective quantities would yield an exact quantity of assembled ironing tables.

Ironing tables without legs (such as models that mount on walls or over doors) are not floor-standing and are specifically excluded. Additionally, tabletop or countertop models with short legs that do not exceed 12 inches in length (and which may or may not collapse or retract) are specifically excluded.

The subject ironing tables were previously classified under Harmonized Tariff Schedule of the United States (“HTSUS”) subheading 9403.20.0010. Effective July 1, 2003, the subject ironing tables are classified under new HTSUS subheading 9403.20.0011. The subject metal top and leg components are classified under HTSUS subheading 9403.90.8040. Although the HTSUS subheadings are provided for convenience and for Customs and Border Protection (“CBP”) purposes, the Department's written description of the scope remains dispositive.

Non-Market-Economy Status

Pursuant to section 771(18)(C)(i) of the Act, any determination that a foreign country is a Non-Market Economy (“NME”) shall remain in effect until revoked by the administering authority. In every case conducted by the Department involving the PRC, the PRC has been treated as an NME. See, e.g., Tapered Roller Bearings and Parts Thereof, Finished and Unfinished, From the People's Republic of China: Preliminary Results 2001-2002 Administrative Review and Partial Rescission of Review, 68 FR 7500, 7500-01 (February 14, 2003), unchanged in Tapered Roller Bearings and Parts Thereof, Finished and Unfinished, from the People's Republic of China: Final Results of 2001-2002 Administrative Review and Partial Rescission of Review, 68 FR 70488 (December 18, 2003). None of the parties to these reviews has contested such treatment. Accordingly, we calculated normal value (“NV”) in accordance with section 773(c) of the Act, which applies to NME countries.

Separate Rates

In proceedings involving NME countries, the Department begins with a rebuttable presumption that all companies within the country are subject to government control and, thus, should be assigned a single antidumping duty rate unless an exporter can affirmatively demonstrate an absence of government control, both in law (“de jure”) and in fact (“de facto”), with respect to its export activities. See Notice of Final Determination of Sales at Less Than Fair Value: Sparklers from the People's Republic of China, 56 FR 20588 at Comment 1 (May 6, 1991) (“Sparklers”). In this review, Since Hardware and Forever Holdings submitted information in support of their respective claims for a company-specific rate.

Accordingly, we have considered whether Since Hardware and Forever Holdings are independent from government control, and therefore eligible for a separate rate. The Department's separate-rate test to determine whether the exporters are independent from government control does not consider, in general, macroeconomic/border-type controls, e.g., export licenses, quotas, and minimum export prices, particularly if these controls are imposed to prevent dumping. See Notice of Final Determination of Sales at Less Than Fair Value: Certain Preserved Mushrooms from the People's Republic of China, 63 FR 72255, 72256 (December 31, 1998). The test focuses, rather, on controls over the investment, pricing, and output decision making process at the individual firm level. See, e.g., Notice of Final Determination of Sales at Less than Fair Value: Certain Cut-to-Length Carbon Steel Plate from Ukraine, 62 FR 61754, 61758 (November 19, 1997), see also Tapered Roller Bearings and Parts Thereof, Finished and Unfinished, From the People's Republic of China; Final Results of Antidumping Duty Administrative Review, 62 FR 61276, 61279 (November 17, 1997).

To establish whether a firm is sufficiently independent from government control of its export activities to be entitled to a separate rate, the Department analyzes each entity exporting the subject merchandise under a test arising from Sparklers, further discussed in Notice of Final Determination of Sales at Less Than Fair Value: Silicon Carbide from the People's Republic of China, 59 FR 22585, 22586-87 (May 2, 1994) (“Silicon Carbide”). In accordance with the separate-rates criteria, the Department assigns separate rates in NME cases only if respondents can demonstrate the absence of both de jure and de facto government control over export activities. See Sparklers, 56 FR 20588 at Comment 1, and Silicon Carbide, 56 FR at 22586.

Since Hardware and Forever Holdings provided complete separate-rate information in their respective responses to our original and supplemental questionnaires. Accordingly, we performed a separate-rates analysis to determine whether both Since Hardware and Forever Holdings are independent from government control.

Absence of De Jure Control

The Department considers the following de jure criteria in determining whether an individual company may be granted a separate rate: (1) an absence of restrictive stipulations associated with an individual exporter's business and export licenses; (2) any legislative enactments decentralizing control of companies; and (3) other formal measures by the government decentralizing control of companies. See Sparklers, 56 FR 20588 at Comment 1. As discussed below, our analysis shows that the evidence on the record supports a preliminary finding of an absence of de jure government control for both Since Hardware and Forever Holdings based on each of these factors.

Since Hardware and Forever Holdings have placed on the record a number of documents to demonstrate absence of de jure control, including documentation substantiating their claims that both are wholly foreign-owned enterprises registered in China. This documentation includes the “Foreign Trade Law of the People's Republic of China” (May 12, 1994) (“Foreign Trade Law”), and “Administrative Regulations of the People's Republic of China Governing the Registration of Legal Corporations” (June 3, 1988) (“Legal Corporations Regulations”). See Since Hardware's Section A questionnaire response dated October 25, 2007 (“Since Hardware Section A”) at Exhibits A-2 and A-5; see also Forever Holdings October 25, 2007 questionnaire response (“Forever Holdings Section A”) at Exhibits A-2 and A-5. Both Since Hardware and Forever Holdings also submitted copies of their respective business licenses. Since Hardware's business license was issued by the Guangzhou Municipal Industrial and Commercial Administration. See Since Hardware Section A at Exhibit A-4. Forever Holdings business license was issued by the Foshun City Shunde District and Industrial and Commercial Administration Bureau. See Forever Holdings Section A at Exhibits 3 and 4. Since Hardware and Forever Holdings both indicated their respective business licenses require that they maintain sufficient capital and operating capacity to engage in normal business operations and that only the company to which the business license was issued may use the business license. See Since Hardware Section A at 4, and Forever Holdings Section A at 7. Also, Since Hardware and Forever Holdings both affirmed there are no limitations imposed on company operations by the business license. See Since Hardware Section A at 5, and Forever Holdings Section A at 8. The business licenses of both Since Hardware and Forever Holdings may be revoked only if a situation arises where, consistent with Article 30 of the Legal Corporations Regulations, Since Hardware or Forever Holdings engage in prohibited activities or possess insufficient business capital. Further, both Since Hardware and Forever Holdings stated that to obtain a renewal of their respective business licenses, they each must submit balance sheets and profit and loss (“P&L”) statements to the issuing authority. Id.

Forever Holdings has placed on the record the Foreign Trade Law. See Forever Holdings Section A at Exhibit 2. Both Since Hardware and Forever Holdings contend that this law allows them full autonomy from the central authority in governing their business operations. See Since Hardware Section A at 3, and Forever Holdings Section A at 4-6. We have reviewed Article 11 of Chapter II of the Foreign Trade Law, which states, “foreign trade dealers shall enjoy full autonomy in their business operation and be responsible for their own profits and losses in accordance with the law.” As in prior cases, we have analyzed such PRC laws and found they establish an absence of de jure control. See, e.g., Preliminary Results of New Shipper Review: Certain Preserved Mushrooms From the People's Republic of China, 66 FR 30695, 30696 (June 7, 2001), unchanged in Final Results of New Shipper Review: Certain Preserved Mushrooms From the People's Republic of China, 66 FR 45006 (August 27, 2001). Therefore, we preliminarily determine that there is an absence of de jure control over the export activities of both Since Hardware and Forever Holdings.

Absence of De Facto Control

As stated in previous cases, there is some evidence that certain enactments of the PRC central government have not been implemented uniformly among different sectors and/or jurisdictions in the PRC. See Sparklers, 56 FR at 20589. Therefore, the Department has determined that an analysis of de facto control is critical in determining whether respondents are, in fact, subject to a degree of government control which would preclude the Department from assigning separate rates. See id.

Typically, the Department considers four factors in evaluating whether a respondent is subject to de facto government control of its export functions: (1) whether the export prices are set by, or subject to, the approval of a government authority; (2) whether the respondent has authority to negotiate and sign contracts and other agreements; (3) whether the respondent has autonomy from the government in making decisions regarding the selection of its management; and (4) whether the respondent retains the proceeds of its export sales and makes independent decisions regarding disposition of profits or financing of losses. See id.

Since Hardware and Forever Holdings have asserted the following: (1) they are both wholly foreign-owned companies; (2) there is no government participation in the setting of export prices; (3) company management has the authority to enter into sales contracts; (4) the companies' owner appoints the company's management and do not have to notify government authorities of their management selections; (5) there are no restrictions on the use of the companies' export revenue; and (6) the companies' board of directors decide how profits will be used. See Since Hardware Section A at 3-9, and Forever Holdings Section A at 3-11. We have examined the documentation provided by Since Hardware and Forever Holdings and note no discrepancies between the information on the record and the two companies' statements on the record with respect to de facto control over its export activities.

Consequently, because evidence on the record indicates an absence of government control, both in law and in fact, over the export activities of both Since Hardware and Forever Holdings, we preliminarily determine that both Since Hardware and Forever Holdings have met the criteria for the application of a separate rate.

Fair Value Comparisons

To determine whether respondents' sales of the subject merchandise to the United States were made at prices below normal value, we compared their United States prices to normal values, as described in the “U.S. Price” and “Normal Value” sections of this notice. See section 773(a) of the Act.

U.S. Price

Export Price

We based U.S. price for both Since Hardware and Forever Holdings on export price (“EP”) in accordance with section 772(a) of the Act, because the first sale to an unaffiliated purchaser was made prior to importation, and constructed export price (“CEP”) was not otherwise warranted by the facts on the record. We calculated EP based on the packed price from the exporter to the first unaffiliated customer in the United States. We deducted foreign inland freight, and foreign brokerage and handling expenses from the starting price (gross unit price), in accordance with section 772(c) of the Act. Also, for Since Hardware we added billing adjustments to the gross unit price, where applicable.

Both Since Hardware and Forever Holdings incurred foreign inland freight and foreign brokerage and handling expenses from PRC service providers. We therefore valued these services using Indian surrogate values (see “Factors of Production” section below for further discussion).

Normal Value

Surrogate Country

Section 773(c)(1) of the Act directs the Department to base NV on the NME producer's factors of production valued in a surrogate market economy country or countries if available information does not permit the calculation of NV pursuant to section 773(a) of the Act. In this instance such information is not available. Therefore, section 773(c)(4) of the Act requires the Department to value an NME producer's factors of production based on the prices or costs of the factors of production, in one or more market-economy countries that to the extent possible are: (1) at a level of economic development comparable to that of the NME country; and (2) significant producers of comparable merchandise. India is among the countries comparable to the PRC in terms of overall economic development, as identified in the Memorandum from Carole Showers, Acting Director Office of Policy, to Scot Fullerton, Program Manager, AD/CVD Operations, Office 9, dated February 28, 2008. See Memorandum to the File from Michael J. Heaney regarding Selection of a Surrogate Country in the Third Administrative Review of Floor-Standing, Metal-Top Ironing Tables and Parts Thereof from the People's Republic of China, dated September 2, 2008 (“Surrogate Country Memorandum”). In addition, based on information from the investigation of ironing tables, India is a significant producer of comparable merchandise. See Notice of Initiation of Antidumping Investigation: Floor-Standing, Metal-Top Ironing Tables and Certain Parts Thereof from the People's Republic of China, 68 FR 44040, 44042 (July 25, 2003), unchanged in Notice of Final Determination of Sales at Less Than Fair Value: Floor-Standing, Metal-Top Ironing Tables and Certain Parts Thereof From the People's Republic of China, 69 FR 35296, 35297 (June 24, 2004).

Accordingly, we selected India as the surrogate country for purposes of valuing the factors of production because it satisfies the Department's criteria for surrogate-country selection. See Surrogate Country Memorandum.

Market Economy Purchases

Since Hardware purchased certain inputs used in the production of the subject merchandise from market economy (“ME”) suppliers and paid for these inputs in ME currencies. We used the weight-averaged ME prices paid by Since Hardware when the inputs were obtained from a ME supplier, paid for in a ME currency, and were a significant portion of the total purchases of that input. See 19 CFR 351.408(c)(1).

Section IV of the Department's standard Section D questionnaire requires respondents to report for each raw material the percentage purchased from an ME country and the percentage purchased from an NME. In its responses to the Department, Since Hardware reported the percentages of each raw material purchased from ME countries and paid for in a ME currency. For each of the ME inputs purchased by Since Hardware during the POR, the Department found that the percentage purchased from ME suppliers constituted more than a third of the input utilized in production of the merchandise. Thus, consistent with the policy set forth in Antidumping Methodologies: Market Economy Inputs, Expected Non-Market Economy Wages, Duty Drawback; and Request for Comment, 71 FR 61716, 61718 (October 19, 2006) (“Antidumping Methodologies”), we used those ME purchases in our calculations. Due to the proprietary nature of Since Hardware's ME purchases and quantities, we are not able to discuss the details of these purchases here. For a complete discussion, see Memorandum from Michael J. Heaney regarding Since Hardware Analysis (“Since Hardware Analysis Memorandum”) dated September 2, 2008. As a result, the Department found that Since Hardware's ME purchases of cold rolled steel, hot rolled steel, steel wire rod, powder coating, cotton fabric, springs, bolts, center nail and nail heads, rivets, cartons, corrugated paper and labels were a meaningful portion of total purchases of that input. See Antidumping Methodologies, 71 FR at 61718. Therefore, in accordance with section 351.408(c)(1) of the Department's regulations, we have preliminarily valued these inputs using the actual ME prices paid.

Factors of Production

In accordance with section 773(c) of the Act, we calculated NV based on the factors of production which included, but were not limited to: (A) hours of labor required; (B) quantities of raw materials employed; (C) amounts of energy and other utilities consumed; and (D) representative capital costs, including depreciation. We used the factors of production reported by the producers for materials, energy, labor, and packing. To calculate NV, we multiplied the reported unit factor quantities by publicly available values in the surrogate country, India.

Since Hardware and Forever Holdings both reported by-product sales. With respect to the application of the by-product offset to normal value, consistent with the Department's determination in the investigation of Diamond Sawblades from the PRC, we will deduct the surrogate value from normal value because the surrogate financial statements on the record of this administrative review contain no references to the treatment of by-products and because Since Hardware and Forever Holdings reported that they sold their by-products. See Final Determination of Sales at Less Than Fair Value and Final Partial Affirmative Determination of Critical Circumstances: Diamond Sawblades and Parts Thereof from the People's Republic of China, 71 FR 29303 (May 22, 2006) (“Diamond Sawblades from the PRC”), and accompanying Issues and Decision Memorandum at Comment 9, unchanged in Notice of Amended Final Determination of Sales at Less Than Fair Value: Diamond Sawblades and Parts Thereof from the People's Republic of China, 71 FR 35864 (June 22, 2006). This is consistent with accounting principles based on a reasonable assumption that if a company sells a by-product, the by-product necessarily incurs expenses for overhead, SG&A, and profit. Id.

In selecting the surrogate Indian values, we considered the quality, specificity, and contemporaneity of the data, in accordance with our practice. See, e.g., Fresh Garlic From the People's Republic of China: Final Results of Antidumping Duty New Shipper Review, 67 FR 72139 (December 4, 2002), and accompanying Issues and Decision Memorandum (“Garlic Decision Memorandum”) at Comment 6; see also Final Results of First New Shipper Review and First Antidumping Duty Administrative Review: Certain Preserved Mushrooms From the People's Republic of China, 66 FR 31204 (June 11, 2001), and accompanying Issues and Decision Memorandum at Comment 5. When we used publicly available import data from the Ministry of Commerce of India (“Indian Import Statistics”) for the POR to value inputs sourced domestically from PRC suppliers, we added to the Indian surrogate values a surrogate freight cost calculated using the shorter of the reported distance from the domestic supplier to the factory or the distance from the closest seaport to the factory. This adjustment is in accordance with the Federal Circuit's decision in Sigma Corp. v. United States, 117 F.3d 1401, 1408 (Fed. Cir. 1997). When we used non-import surrogate values for factors sourced domestically by PRC suppliers, we based freight for inputs on the actual distance from the input supplier to the site at which the input was used. In addition, in instances where we relied on Indian import data to value inputs, in accordance with the Department's practice, we excluded imports from both NME countries and countries deemed to maintain broadly available, non-industry-specific subsidies which may benefit all exporters to all export markets (i.e., Indonesia, South Korea, and Thailand) from our surrogate value calculations. See, e.g., Tapered Roller Bearings and Parts Thereof, Finished and Unfinished, From the People's Republic of China; Final Results of 1999-2000 Administrative Review, Partial Rescission of Review, and Determination Not to Revoke Order in Part, 66 FR 57420 (November 15, 2001) and accompanying Issues and Decision Memorandum at Comment 1; see also Factors of Production Valuation Memorandum for the Preliminary Results of Antidumping Duty Administrative Review of Floor-Standing, Metal-Top Ironing Tables and Certain Parts Thereof from the People's Republic of China, dated September 2, 2008 (“Factor Valuation Memorandum”) (for a complete discussion of the import data that we excluded from our calculation of surrogate values).

Where we could not obtain publicly available information contemporaneous with the POR to value factors, we adjusted the surrogate values using the Indian Wholesale Price Index (“WPI”) as published in the International Financial Statistics of the International Monetary Fund, for those surrogate values in Indian rupees. We made currency conversions, where necessary, pursuant to 19 CFR 351.415, to U.S. dollars using the daily exchange rate corresponding to the reported date of each sale. We relied on the daily exchange rates posted on the Import Administration website (http://www.trade.gov/ia/).

We valued the factors of production as follows:

The Department used the Indian Import Statistics to value the raw material and packing material inputs Since Hardware and Forever Holdings used to produce the merchandise under review during the POR, except where noted below. Detailed descriptions of all surrogate values are discussed in the Factor Valuation Memorandum.

To value water, we calculated the average rate of inside and outside industrial water rates from various regions as reported by the Maharashtra Industrial Development Corporation, http://midcindia.org, dated June 1, 2003. We inflated the value for water using the POR average WPI rate. See Factor Valuation Memorandum.

We valued electricity using the 2000 electricity price in India reported by the International Energy Agency statistics for Energy Prices & Taxes, Second Quarter 2003. We inflated the value for electricity using the POR average WPI rate. See Factor Valuation Memorandum.

We valued diesel using the rates provided by the OECD's International Energy Agency's publication: Key World Energy Statistics from 2004 and 2005. The prices are based on 2004 and 2005 first quarter prices of automotive diesel fuel retail prices. See Factor Valuation Memorandum.

With respect to valuation of factory overhead, selling, general and administrative expenses, and profit, in the Final Results of the 2004-2005 Administrative Review of this Order, the Department relied on the 2005-2006 Infiniti Modules Pvt. Ltd. (“Infiniti Modules”) financial statements, because it provides the most contemporaneous and publicly available information. See Floor Standing, Metal-Top Ironing Tables and Certain Parts Thereof from the People's Republic of China: Final Results and Final Recisssion, In Part, of Antidumping Duty Administrative Review of Antidumping Duty Administrative Review 72 FR 13239, (March 21, 2007) and Accompanying Issues and Decision Memorandum at Comment 1 (“AR 1 Final Results”). Petitioner placed on the record Infiniti Modules 2005-2006 financial statements in its July 14, 2008 submission at Exhibit 1. Petitioner included in its July 14, 2008 submission the profit and loss statement for Infiniti Modules for the 2005-2006 financial period.

In valuing factors of production, section 773(c)(1) of the Act instructs the Department to use “the best available information” from the appropriate market economy country. As discussed above, in choosing the most appropriate surrogate value, the Department considers several factors, including the quality, specificity, and contemporaneity of the source information. See, e.g., Garlic Decision Memorandum, at Comment 6. For these preliminary results, the Department has determined that the 2005-2006 Infiniti Modules financial statements are complete, publicly available, and reflect merchandise comparable to ironing tables. We note the 2005-2006 Infiniti Modules financial statements were obtained from the Indian Registrar of Companies, and are publicly available. See Petitioner's July 14, 2008 surrogate value submission. With respect to quality, we note the 2005-2006 Infiniti Modules financial statements are complete, audited financial statements with all auditors notes and schedules, as well a complete balance sheet and P&L. Regarding specificity, we preliminarily find, consistent with our determination in the 2004-2005 review of this proceeding, that Infiniti Modules manufactures merchandise that closely reflects merchandise comparable to ironing tables. (See AR1 Final Results.) Therefore, we preliminarily find that the 2005-2006 Infinity Modules financial statements are publicly available, quality data specific to the merchandise under review.

Thus, the Department preliminarily finds, consistent with section 773(c)(1) of the Act and the AR1 Final Results, that the 2005-2006 Infiniti Modules financial statements are the best information available on the record of this review, from which to value the surrogate financial ratios of factory overhead, selling, general & administrative expenses, and profit. See Factor Valuation Memorandum for details concerning the calculation of these ratios.

Because of the variability of wage rates in countries with similar levels of per capita gross domestic product, 19 CFR 351.408(c)(3) requires the use of a regression-based wage rate. Therefore, to value the labor input, we used the PRC's regression-based wage rate published by Import Administration on its website, http://www.trade.gov/ia/. See Factor Valuation Memorandum.

To value truck freight, we calculated a weighted-average freight cost based on publicly available data from www.infreight.com, an Indian inland freight logistics resource website. See Factor Valuation Memorandum.

To value brokerage and handling, the Department used a simple average of the publicly summarized version of the average value for brokerage and handling expenses reported in the U.S. sales listings in the submission from Essar Steel Ltd. (“Essar Steel”), dated February 28, 2005, in the antidumping duty review of Certain Hot-Rolled Carbon Steel Flat Products from India; the submission from Agro Dutch Industries Limited (“Agro Dutch”), dated May 24, 2005, at Exhibit B-1, in the antidumping duty administrative review of Certain Preserved Mushrooms from India; and the submission from Kejriwal Paper Ltd. (“Kejriwal”), dated January 9, 2006, in the antidumping duty review of Lined Paper from India. (The information used to derive brokerage and handling surrogate values from Essar Steel's February 28, 2005 U.S. sales listing, Exhibit B-1 of Agro Dutch's May 24, 2005 submission, and Kejriwal's January 9, 2006 submission is on the record of this proceeding. See Factors Valuation Memorandum at Attachment 3.) Use of these averages is consistent with the Department's normal practice to calculate brokerage and handling expenses. The Department's preference is to average these data sources because they represent values for numerous transactions that are available for a range of products and minimize the potential distortions that might arise from a single price source. One value, taken in isolation, could differ significantly when compared across a range of products, values, and special circumstances of a single transaction. See Final Determination of Sales at Less Than Fair Value and Partial Affirmative Determination of Critical Circumstances: Certain Polyester Staple Fiber from the People's Republic of China, 72 FR 19690 (April 19, 2007), and accompanying Issues and Decision memo at Comment 5. See also Factor Valuation Memorandum.

In accordance with 19 CFR 351.301(c)(3)(ii), for the final results of this administrative review, interested parties may submit publicly available information to value the factors of production until 20 days following the date of publication of these preliminary results.

Preliminary Results of Review

We preliminarily determine that the following antidumping duty margins exist:

Exporter | Margin (percent)
Forever Holdings | 0%
Since Hardware (Guangzhou) Co., Ltd. | 1.53 %

For details on the calculation of the antidumping duty weighted-average margin for Since Hardware and Forever Holdings, see the respective Since Hardware Analysis Memorandum and the Forever Holdings Analysis Memorandum. Public versions of these memoranda are on file in the Department's Central Records Unit, Room 1117 of the main commerce building (“CRU”).

Assessment Rates

Pursuant to 19 CFR 351.212(b), the Department will determine, and CBP shall assess, antidumping duties on all appropriate entries. The Department will issue appropriate assessment instructions directly to CBP 15 days after the date of publication of the final results of this review. For assessment purposes, where possible, we calculated importer-specific ad valorem assessment rates for ironing tables from the PRC based on the ratio of the total amount of the dumping duties calculated for the examined sales to the total entered value of those same sales. We will instruct CBP to assess antidumping duties on all appropriate entries covered by this review if any assessment rate calculated in the final results of this review is above de minimis. The final results of this review shall be the basis for the assessment of antidumping duties on entries of merchandise covered by the final results of these reviews and for future deposits of estimated duties, where applicable.

Cash Deposit Requirements

The following cash deposit requirements will be effective upon publication of the final results of this administrative review for all shipments of the subject merchandise entered, or withdrawn from warehouse, for consumption on or after the publication date, as provided for by section 751(a)(2)(C) of the Act: (1) for the exporters listed above, the cash deposit rate will be established in the final results of this review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 157.68 percent (see Ironing Tables Order); and (4) for all non-PRC exporters of subject merchandise which have not received their own rate, the cash deposit rate will be the rate applicable to the PRC exporters that supplied that non-PRC exporter. These deposit requirements, when imposed, shall remain in effect until publication of the final results of the next administrative review.

Schedule for Final Results of Review

The Department will disclose calculations performed in connection with the preliminary results of this review within five days of the date of publication of this notice in accordance with 19 CFR 351.224(b). Any interested party may request a hearing within 30 days of publication of this notice in accordance with 19 CFR 351.310(c). Any hearing will be held 37 days after the publication of this notice, or the first workday thereafter unless the Department alters the date pursuant to 19 CFR 351.310(d). Individuals who wish to request a hearing must submit a written request within 30 days of the publication of this notice in the Federal Register to the Assistant Secretary for Import Administration, U.S. Department of Commerce, Room 1870, 14th Street and Constitution Avenue, NW, Washington, DC 20230. Requests for a public hearing should contain: (1) the party's name, address, and telephone number; (2) the number of participants; and (3) to the extent practicable, an identification of the arguments to be raised at the hearing.

Unless otherwise notified by the Department, interested parties may submit case briefs within 30 days of the date of publication of this notice in accordance with 19 CFR 351.309(c)(1)(ii). As part of the case brief, parties are encouraged to provide a summary of the arguments not to exceed five pages and a table of statutes, regulations, and cases cited in accordance with 19 CFR 351.309(c)(2). Rebuttal briefs, which must be limited to issues raised in the case briefs, must be filed within five days after the case brief is filed in accordance with 19 CFR 351.309(d). If a hearing is held, an interested party may make an affirmative presentation only on arguments included in that party's case brief and may make a rebuttal presentation only on arguments included in that party's rebuttal brief in accordance with 19 CFR 351.310(c). Parties should confirm by telephone the time, date, and place of the hearing within 48 hours before the scheduled time. The Department will issue the final results of this review, which will include the results of its analysis of issues raised in the briefs, not later than 120 days after the date of publication of this notice in accordance with section 751(a)(3)(A) of the Act and 19 CFR 351.213(h)(1).

Notification to Importers

This notice also serves as a preliminary reminder to importers of their responsibility under 19 CFR 351.402(f) to file a certificate regarding the reimbursement of antidumping duties prior to liquidation of the relevant entries during these review periods. Failure to comply with this requirement could result in the Secretary's presumption that reimbursement of antidumping duties occurred and the subsequent assessment of double antidumping duties.

These preliminary results of administrative review are issued and this notice is published in accordance with sections 751(a)(1) and 777(i)(1) of the Act.

Dated: September 2, 2008.
David M. Spooner,
Assistant Secretary for Import Administration.

[FR Doc. E8-20921 Filed 9-8-08; 8:45 am]

BILLING CODE 3510-DS-S